DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 7, 2005.

Interested persons are invited to submit written comments regarding the subject matter of the investigations to the Director, Division of Trade Adjustment Assistance, at the address shown below, not later than April 7, 2005.

The petitions filed in this case are available for inspection at the Office of the Director, Division of Trade Adjustment Assistance, Employment and Training Administration, U.S. Department of Labor, Room C-5311, 200 Constitution Avenue, NW., Washington, DC 20210.

Signed at Washington, DC, this 15th day of March, 2005.
Timothy Sullivan,
Director, Division of Trade Adjustment Assistance.

Appendix
[Petitions instituted between 02/28/2005 and 03/04/2005]
TA-W | Subject firm (petitioners) | Location | Date of institution | Date of petition
56,648 | Hamilton Sundstrand (Comp) | Grand Junction, CO | 02/28/2005 | 02/22/2005
56,649 | Seneca Foods Corp. (Wkrs) | Dayton, WA | 02/28/2005 | 02/22/2005
56,650 | Barnes Supply Co., Inc. (Comp) | Collinsville, VA | 02/28/2005 | 02/24/2005
56,651 | Profile Metal Forming (Comp) | Tullahoma, TN | 02/28/2005 | 02/24/2005
56,652 | Vishay Sprague (Comp) | Sanford, ME | 02/28/2005 | 02/25/2005
56,653 | Mercury Marine—Brunswick (Wkrs) | Fond du Lac, WI | 02/28/2005 | 02/25/2005
56,654 | ECC Corporation (Wkrs) | Jefferson, MA | 02/28/2005 | 02/17/2005
56,655 | BASF Corporation Agricultural Products (Comp) | Beaumont, TX | 02/28/2005 | 02/02/2005
56,656 | ICS Cutting Tools (Comp) | Casco, WI | 03/01/2005 | 02/14/2005
56,657 | Vernay Laboratories, Inc. (IUECWA) | Yellow Springs, OH | 03/01/2005 | 02/14/2005
56,658 | Pacific Coast Feather Co. (Wkrs) | Henderson, NC | 03/01/2005 | 02/21/2005
56,659 | Healthco International, LLC (Comp) | Dixville Notch, NH | 03/01/2005 | 02/28/2005
56,660 | GE Security (Comp) | Gladewater, TX | 03/02/2005 | 02/28/2005
56,661 | Johnston Textiles, Inc. (Wkrs) | Valley, AL | 03/02/2005 | 03/01/2005
56,662 | Olsonite Corporation (Comp) | Newnan, GA | 03/02/2005 | 02/17/2005
56,663 | Sohnen Enterprises, Inc. (State) | Santa Fe Spring, CA | 03/02/2005 | 02/18/2005
56,664 | Osram Sylvania (Comp) | Bangor, ME | 03/02/2005 | 02/17/2005
56,665 | Casual Lamps (State) | Gardena, CA | 03/02/2005 | 02/25/2005
56,666 | Aim Nationalease (Comp) | Old Fort, NC | 03/02/2005 | 02/14/2005
56,667 | Industrial Distribution Group (Comp) | West Jefferson, NC | 03/03/2005 | 03/03/2005
56,668 | Agrium U.S., Inc. (Comp) | Kenai, AK | 03/03/2005 | 03/02/2005
56,669 | Positive Systems, Inc. (Comp) | Whitefish, MT | 03/03/2005 | 03/02/2005
56,670 | Carolina Mills, Inc. (NC) | Maiden, NC | 03/03/2005 | 02/14/2005
56,671 | TSI Logistics (Wkrs) | Stockbridge, GA | 03/03/2005 | 03/02/2005
56,672 | Golden Northwest Aluminum (USWA) | Goldendale, WA | 03/03/2005 | 03/01/2005
56,673 | Keystone Weaving Mills, Inc. (Comp) | York, PA | 03/03/2005 | 03/01/2005
56,674 | CTS Wireless Componets (Wkrs) | Albuquerque, NM | 03/03/2005 | 02/28/2005
56,675 | Continental Tire North America (Wkrs) | Akron, OH | 03/03/2005 | 02/02/2005
56,676 | Regent Meg Co. (Wkrs) | San Francisco, CA | 03/03/2005 | 03/01/2005
56,677 | Wyeth Pharmaceutical (Wkrs) | Westchester, PA | 03/03/2005 | 03/02/2005
56,678 | Honeywell International, Inc. (Comp) | Lynn Haven, FL | 03/03/2005 | 02/28/2005
56,679 | Beverly Enterprise (Wkrs) | Fort Smith, AR | 03/03/2005 | 03/02/2005
56,680 | Industrial Metal Products (State) | Lansing, MI | 03/04/2005 | 02/24/2005
56,681 | Lobdell-Emery/Oxford Automotive (Wkrs) | Greencastle, IN | 03/04/2005 | 03/03/2005
56,682 | American Express (Wkrs) | Phoenix, AZ | 03/04/2005 | 03/03/2005
56,683 | Intel (Wkrs) | Hillsboro, OR | 03/04/2005 | 03/03/2005
56,684 | Roaring and Cumberland Mfg., Inc. (Comp) | Sparta, TN | 03/04/2005 | 03/01/2005
56,685 | Global Textile Robotics, LLC (Wkrs) | Greenville, SC | 03/04/2005 | 03/01/2005
56,686 | McDade Apparel, LLC (Wkrs) | Warrenton, NC | 03/04/2005 | 03/03/2005
56,687 | KL-Arrow, Inc. (Comp) | Asheboro, NC | 03/04/2005 | 03/02/2005
56,688 | Lands' End (Wkrs) | Dodgeville, WI | 03/04/2005 | 03/03/2005

[FR Doc. E5-1363 Filed 3-25-05; 8:45 am]

BILLING CODE 4510-30-P